DEPARTMENT OF ENERGY

Federal Energy Regulatory Commission

[Docket No. RP05-525-001]

Tennessee Gas Pipeline Company; Notice of Compliance Filing

August 10, 2005.

Take notice that on August 2, 2005, Tennessee Gas Pipeline Company (Tennessee) tendered for filing as part of its FERC Gas Tariff, Fifth Revised Volume No. 1, to become effective July 1, 2005:

Sub Thirty-Third Revised Sheet No. 21A,

Sub Thirty-Ninth Revised Sheet No. 22,

Sub Thirty-Third Revised Sheet No. 22A,

Sub Fifth Revised Sheet No. 23A.01,

Sub Fifth Revised Sheet No. 23C.01,

Sub Fifth Revised Sheet No. 23E.01.

Tennessee states that these tariff sheets are being filed to correct calculation errors made during the preparation of, and included in, the July 29, 2005, Termination of the GSR Interruptible Surcharge filing. Accordingly, Tennessee is submitting substitute revised tariff sheets to reflect the correct rates under Rate Schedules PAT, IT, and IT-X and Tennessee's Authorized Overrun Rate Schedules FT-A, FT-G, and FT-BH.

Any person desiring to protest this filing must file in accordance with Rule 211 of the Commission's Rules of Practice and Procedure (18 CFR 385.211). Protests to this filing will be considered by the Commission in determining the appropriate action to be taken, but will not serve to make protestants parties to the proceeding. Such protests must be filed in accordance with the provisions of Section 154.210 of the Commission's regulations (18 CFR 154.210). Anyone filing a protest must serve a copy of that document on all the parties to the proceeding.

The Commission encourages electronic submission of protests in lieu of paper using the “eFiling” link at http://www.ferc.gov. Persons unable to file electronically should submit an original and 14 copies of the protest to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Linda Mitry,
Deputy Secretary.

[FR Doc. E5-4444 Filed 8-15-05; 8:45 am]

BILLING CODE 6717-01-P